DEPARTMENT OF COMMERCE

International Trade Administration

[A-570-912]

New Pneumatic Off-the-Road Tires From the People's Republic of China: Notice of Partial Rescission of Antidumping Duty Administrative Review

AGENCY: Import Administration, International Trade Administration, Department of Commerce.

DATES: Effective Date: May 21, 2010.

FOR FURTHER INFORMATION CONTACT: Andrea Staebler Berton, AD/CVD Operations, Office 8, Import Administration, International Trade Administration, U.S. Department of Commerce, 14th Street and Constitution Avenue, NW., Washington, DC 20230; telephone: (202) 482-4037.

Background

On September 1, 2009, the Department of Commerce (“the Department”) published a notice of opportunity to request an administrative review of the antidumping duty order on New Pneumatic Off-the-Road Tires (“OTR tires”) from the People's Republic of China (“PRC”) for the period of review (“POR”) February 20, 2008, through August 31, 2009. See Antidumping or Countervailing Duty Order, Finding, or Suspended Investigation: Opportunity to Request Administrative Review, 74 FR 45179 (September 1, 2009). On September 28, 2009, Guizhou Tire I&E Corporation, Guizhou Tyre Co., Ltd., and Guizhou Advanced Rubber Co., Ltd. (collectively “GTC”), exporters of OTR tires, requested that the Department conduct an administrative review of its exports to the United States during the POR. On September 29, 2009, GPX International Tire Corporation (“GPX”), an importer of OTR tires, requested that the Department conduct an administrative review of OTR tires exports from the following entities: GTC; Hebei Starbright Tire Co., Ltd. (“Starbright”); Tianjin United Tire & Rubber International Co., Ltd. (“TUTRIC”); Jiangsu Feichi Co., Ltd. (“Feichi”); Shangdong Huitong Tyre Co., Ltd. (“Huitong”); Aeolus Tyre Co., Ltd. (“Aeolus”); Triangle Tyre Co., Ltd. (“Triangle”); and Tianjin Wanda Tyre Group (“Wanda”). On September 30, 2009, Super Grip, an importer of OTR tires, and Innova Rubber Co., Ltd. (“Innova”), a PRC exporter and producer of OTR tires, requested that the Department conduct an administrative review of Innova's exports. Also on September 30, 2009, TUTRIC, a PRC exporter of OTR tires, requested that the Department conduct an administrative review of its own exports. The Department received timely requests for review for six additional exporters: Hanghzou Zhongce Rubber Co., Ltd., KS Holding Limited and KS Resources Limited, Laizhou Xiongying Rubber Industry Co., Ltd., Qingdao Free Trade Zone Full World International Trading Co., Ltd., Qingdao Taifa Group Co., Ltd., and Weihai Zhongwei Rubber Co., Ltd. The Department then published in the Federal Register the initiation notice for the antidumping duty administrative review of OTR tires from the PRC for the 2008-2009 POR. See Initiation of Antidumping and Countervailing Duty Administrative Reviews, Request for Revocation in Part, 74 FR 54956 (October 26, 2009).

Partial Rescission of Review

Pursuant to 19 CFR 351.213(d)(1), the Secretary will rescind an administrative review, in whole or in part, if the party that requested the review withdraws the request within 90 days of the date of publication of the notice of initiation of the requested review. The Secretary may also extend this time limit if the Secretary decides that it is reasonable to do so. On November 20, 2009, GPX timely withdrew its request for an administrative review of exports from GTC, TUTRIC, Feichi, Huitong, Aeolus, Triangle, and Wanda (i.e., within 90 days of the publication of the notice of initiation of this review). On November 24, 2009, Super Grip and Innova timely withdrew their requests for an administrative review of exports from Innova. On December 10, 2009, GTC timely withdrew its request for an administrative review of its exports. On February 24, 2010, TUTRIC withdrew its request for an administrative review of its exports. In spite of the fact that TUTRIC missed the deadline, we are accepting the request because the Department has not invested significant recourses into the analysis of TUTRIC's responses. Because no additional party requested a review of GTC's, TUTRIC's, Feichi's, Huitong's, Aeolus', Triangle's, Wanda's, and Innova's exports, the Department hereby rescinds the administrative review of OTR tires with respect to these entities in accordance with 19 CFR 351.213(d)(1). This administrative review will continue with respect to Starbright, Hanghzou Zhongce Rubber Co., Ltd., KS Holding Limited and KS Resources Limited, Laizhou Xiongying Rubber Industry Co., Ltd., Qingdao Free Trade Zone Full World International Trading Co., Ltd., Qingdao Taifa Group Co., Ltd. and Weihai Zhongwei Rubber Co., Ltd.

Assessment Rates

The Department will instruct U.S. Customs and Border Protection (“CBP”) to assess antidumping duties on all appropriate entries. For GTC, TUTRIC, Feichi, Huitong, Aeolus, and Triangle, which each had previously established eligibility for a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice.

Because Wanda and Innova remain part of the PRC entity, their respective entries may be under review in the ongoing administrative review. Accordingly, the Department will not order liquidation of entries for Wanda or Innova. The Department intends to issue assessment instructions for the PRC entity, which will cover any entries by Wanda and Innova, 15 days after publication of the final results of the ongoing administrative review.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice is issued and published in accordance with section 777(i) of the Tariff Act of 1930, as amended, and 19 CFR 351.213(d)(4).

Dated: May 14, 2010.
John M. Andersen,
Acting Deputy Assistant Secretary for Antidumping and Countervailing Duty Operations.

[FR Doc. 2010-12295 Filed 5-20-10; 8:45 am]

BILLING CODE 3510-DS-P